DEPARTMENT OF THE INTERIOR

Bureau of Land Management

[LLWO310000.19X.L13140000.PP0000; OMB Control Number 1004-0210]

Agency Information Collection Activities; Measurement of Gas

AGENCY: Bureau of Land Management, Interior.

ACTION: Notice of information collection; request for comment.

SUMMARY: In accordance with the Paperwork Reduction Act of 1995, the Bureau of Land Management (BLM) is proposing to renew an information collection.

DATES: Interested persons are invited to submit comments on or before December 17, 2019.

ADDRESSES: Send your comments on this information collection request (ICR) by mail to Jean Sonneman. U.S. Department of the Interior, Bureau of Land Management, 1849 C Street NW, Room 2134LM, Washington DC 20240; or by email to jsonneman@blm.gov. Please reference OMB Control Number 1004-0210 in the subject line of your comments.

FOR FURTHER INFORMATION CONTACT: To request additional information about this ICR, contact Beth Poindexter by email at bpoindexter@blm.gov, or by telephone at 505-954-2112.

SUPPLEMENTARY INFORMATION: In accordance with the Paperwork Reduction Act of 1995, the BLM provides the general public and other Federal agencies with an opportunity to comment on new, proposed, revised, and continuing collections of information. This helps to assess the impact of the BLM's information collection requirements and minimize the public's reporting burden. It also helps the public understand the BLM's information collection requirements and provides the requested data in the desired format.

The BLM is soliciting comments on the proposed ICR that is described below. The BLM is especially interested in public comment addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments that you submit in response to this notice are a matter of public record. The BLM will include or summarize each comment in our request to OMB to approve this ICR. Before including your address, phone number, email address, or other personal identifying information in your comment, you should be aware that your entire comment—including your personal identifying information—may be made publicly available at any time. While you can ask in your comment to the BLM to withhold your personal identifying information from public review, the BLM cannot guarantee that it will be able to do so.

Abstract: The Bureau of Land Management (BLM) is requesting renewal of a control number that pertains to the accurate measurement and proper reporting of all natural gas removed or sold from Federal and Indian leases, units, unit participating areas, and areas subject to communitization agreements.

Title of Collection: Measurement of Gas.

OMB Control Number: 1004-0210.

Form: None.

Type of Review: Extension of a currently approved collection.

Description of Respondents: Primarily business that operate Federal oil and gas leases. Also lessees, purchasers, and transporters of natural gas from Federal oil and gas leases.

Total Estimated Number of Annual Responses: 430,782.

Estimated Completion Time per Response: Varies from 6 minutes to 80 hours, depending on activity.

Total Estimated Number of Annual Burden Hours: 95,068 hours.

Respondent's Obligation: Required to obtain or retain a benefit.

Frequency of Collection: “On occasion” with the following exceptions:

A. The following information collection activities are one-time-only, and pertain to equipment in operation before January 17, 2017:

• Transducers—Test Data Collection and Submission for Existing Makes and Models;

• Flow-Computer Software—Test Data Collection and Submission for Existing Makes and Models;

• Isolating Flow Conditioners—Test Data Collection and Submission for Existing Makes and Models;

• Differential Primary Devices Other than Flange-Tapped Orifice Plates—Test Data Collection and Submission for Existing Makes and Models;

• Linear Measurement Devices—Test Data Collection and Submission for Existing Makes and Models; and

• Accounting Systems—Test Data Collection and Submission for Existing Makes and Models.

B. Spot sampling in accordance with 43 CFR 3175.115(a) and (b) is required at the following frequency:

• Once every 12 months for very-low volume facility management points (FMPs);

• Once every 6 months for low-volume FMPs;

• Once every 3 months for high-volume FMPs;

• Once a month for very-high volume FMPs.

C. The following information collection activities require a response in fewer than 30 days upon receipt of a request from the BLM:

• The operator must submit all gas analysis reports to the BLM within 15 days of the due date for the sample as specified in 43 CFR 3175.115.

• A BLM request for information, either while the BLM is witnessing a gas analysis or conducting a production audit, generally requires a response within 2 weeks. The pertinent regulations are at 43 CFR 3175.102(e)(2), 3175.113(d)(1), 3175.118(c) and (d), 3175.104(a), and 3175.104(b).

• An operator must produce proof of test equipment recertification immediately when a BLM inspector is present to witness the verification of a mechanical record or EGM system under 43 CFR 3175.102(h), or to witness a gas sample being taken under 43 CFR 3175.113(c)(3) or 3175.114(a)(3).

Total Estimated Annual Nonhour Burden Cost: $24,600,894.

An agency may not conduct or sponsor and a person is not required to respond to a collection of information unless it displays a currently valid OMB control number. The authority for this action is the Paperwork Reduction Act of 1995 (44 U.S.C. 3501 et seq.)

Jean Sonneman,
Bureau of Land Management, Information Collection Clearance Officer.

[FR Doc. 2019-22798 Filed 10-17-19; 8:45 am]

BILLING CODE 4310-84-P